DEPARTMENT OF ENERGY

Federal Energy Regulatory Commission

[Docket No. CP08-442-000]

CenterPoint Energy Gas Transmission Company; Notice of Request Under Blanket Authorization

July 25, 2008.

Take notice that on July 18, 2008, CenterPoint Energy Gas Transmission Company (CEGT), 1111 Louisiana Street, Houston, Texas 77002-5231, filed in Docket No. CP08-442-000, a prior notice request pursuant to sections 157.205 and 157.216 of the Federal Energy Regulatory Commission's regulations under the Natural Gas Act for authorization to abandon, by sale and transfer, certain facilities in Oklahoma, all as more fully set forth in the application, which is on file with the Commission and open to public inspection. The filing may also be viewed on the Web at http://www.ferc.gov using the “eLibrary” link. Enter the docket number excluding the last three digits in the docket number field to access the document. For assistance, contact FERC at FERCOnlineSupport@ferc.gov or call toll-free, (866) 208-3676 or TTY, (202) 502-8659.

Specifically, CEGT proposes to abandon, by transfer and sale at net book value of $544,481 as of June 30, 2008, to CenterPoint Energy Resources Corp., d/b/a Oklahoma Gas, an affiliated local distribution company, a segment of Line 11 and entire Line 11-D. CEGT states that Line 11 consists of 8,126 feet of 4½ inch steel pipe with two domestic taps and Line 11-D consists of 16,613 feet of 2⅜ inch steel diameter pipe with nine domestic taps, both located in Comanche County, Oklahoma. CEGT asserts that Oklahoma Gas will incorporate these lines as part of its existing low-pressure distribution system in Oklahoma.

Any questions regarding the application should be directed to Lawrence O. Thomas, Director-Rates & Regulatory, CenterPoint Energy Gas Transmission Company, P.O. Box 21734, Shreveport, Louisiana 71151, or call (318) 429-2804.

Any person may, within 60 days after the issuance of the instant notice by the Commission, file pursuant to Rule 214 of the Commission's Procedural Rules (18 CFR 385.214) a motion to intervene or notice of intervention. Any person filing to intervene or the Commission's staff may, pursuant to section 157.205 of the Commission's Regulations under the Natural Gas Act (NGA) (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the Internet in lieu of paper. See 18 CFR 385.2001(a)(1)(iii) and the instructions on the Commission's Web site (http://www.ferc.gov) under the “e-Filing” link.

Kimberly D. Bose,
Secretary.

[FR Doc. E8-17641 Filed 7-31-08; 8:45 am]

BILLING CODE 6717-01-P